Proclamation 9640 of September 15, 2017

National Farm Safety and Health Week, 2017

By the President of the United States of America

A Proclamation

As the fall harvest begins, we reflect on the vital contributions of hard-working American farmers, ranchers, and foresters, and we commit to ensuring their health and their safety. During National Farm Safety and Health Week, we recognize the men and women of our great Nation who work the land, often times at their own risk, to supply the United States and the world with essential products while creating jobs, supporting the economy, and protecting our environment and natural resources for future generations.

Farmers, ranchers, foresters, and their families play critical roles in meeting our Nation's needs for food, fiber, forestry, fuel, and jobs. Each day, they perform a range of physically demanding and potentially dangerous tasks. These tasks often involve long hours and are performed in high-risk settings, whether working in confined storage buildings, operating heavy machinery, or handling hazardous chemicals, sometimes in harsh weather conditions.

According to the Department of Labor, agriculture has the highest fatality rate of any industry sector in America, and reported 570 fatalities in 2015. These fatalities frequently result from transportation incidents and the dangers of working with heavy machinery. As the fortunate beneficiaries of these workers' long hours of physically demanding and dangerous labor, it is incumbent upon us all to be mindful of the hazards of this industry. To eliminate or minimize the risks, we must emphasize “safety first” and support comprehensive farm-safety education and training initiatives.

American farmers, ranchers, and foresters uphold values at the heart of the American character, and as such, it is our duty to protect and promote their safety and health. This week we pay tribute to those who earn their living from the land and honor their resolute work ethic, steadfast concern for others, and a strong sense of community.

NOW, THEREFORE, I, DONALD J. TRUMP, President of the United States of America, by virtue of the authority vested in me by the Constitution and the laws of the United States, do hereby proclaim September 17 through September 23, 2017, as National Farm Safety and Health Week. I call upon the people of the United States, including America's farmers and ranchers and agriculture-related institutions, organizations, and businesses, to reaffirm their dedication to farm safety and health. I also urge all Americans to honor our agricultural heritage and to express their appreciation and gratitude to our farmers, ranchers, and foresters for their important contributions and tireless service to our Nation.

IN WITNESS WHEREOF, I have hereunto set my hand this fifteenth day of September, in the year of our Lord two thousand seventeen, and of the Independence of the United States of America the two hundred and forty-second.

[FR Doc. 2017-20377

Filed 9-20-17; 11:15 am]

Billing code 3295-F7-P